DEPARTMENT OF HOMELAND SECURITY

Coast Guard

[CGD08-05-013]

Implementation of Sector Mobile

AGENCY: Coast Guard, DHS.

ACTION: Notice of organizational change.

SUMMARY: The Coast Guard announces the stand-up of Sector Mobile. Sector Mobile Commanding Officer has the authority, responsibility and missions of Group Mobile and Marine Safety Office Mobile in one command. The Coast Guard has established a continuity of operations whereby all previous practices and procedures will remain in effect until superseded by an authorized Coast Guard official or document.

DATES: This notice is effective March 25, 2005.

ADDRESSES: Documents indicated in this preamble as being available in the docket are part of docket CGD08-05-013 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector Mobile is located at Building 102, Brookley Complex, Mobile, AL 36615-1390 and contains a single Command Center. Sector Mobile is composed of a Response Department, Prevention Department, and Logistics Department. All existing missions and functions performed by Group Mobile and Marine Safety Office Mobile have been operating under this new organizational structure since September 15, 2004. Effective March 25, 2005, Group Mobile and Marine Safety Office Mobile no longer exist as organizational entities. Sector Mobile is responsible for all Coast Guard Missions in the following zone: “The boundary of Sector Mobile starts at the Florida coast at 83°50′ W. longitude; thence proceeds north to 30°15′ N. latitude, 83°50′ W. longitude; thence west to 30°15′ N. latitude, 84°45′ W. longitude; thence north to the southern shore of the Jim Woodruff Reservoir at 84°45′ W. longitude; thence northeasterly along the eastern shore of Jim Woodruff Reservoir and northerly along the eastern bank of the Flint River to 32°20′ N. latitude, 84°02′ W. longitude; thence northwesterly to the intersection of the Georgia-Alabama boundary at 32°53′ N. latitude; thence northerly along the Georgia-Alabama boundary to 34°00′ N. latitude; thence west to the Alabama-Mississippi boundary at 34°00′ N. latitude; thence northerly along the Alabama-Mississippi boundary to the southern boundary of Tishomingo County, Mississippi; thence westerly and southerly along the southern boundaries of Tishomingo and Prentiss Counties, Mississippi, including that area of the Tennessee-Tombigby Waterway south of the Bay Springs Lock and Dam; thence southerly and westerly along the eastern and southern boundaries of Lee, Chickasaw, and Calhoun Counties, Mississippi; thence southerly along the western boundaries of Webster, Choctaw, Winston, Neshoba, Newton, Jasper, Jones, Forrest and Stone Counties, Mississippi; thence easterly along the northern boundary of Harrison County, Mississippi, to 89°10′ W. longitude; thence south to the Mississippi coast; thence southeasterly to 29°10′ N. latitude, 88°00′ W. longitude; thence south to the outermost extent of the EEZ; thence easterly along the outermost extent of the EEZ to the intersection with a line bearing 199° T from the intersection of the Florida coast at 83°50′ W. longitude; thence northeasterly along a line bearing 199° T from the Florida coast at 83°50′ W. longitude to the coast.”

Sector Mobile's zone will be modified in the future upon the stand-up of adjoining sectors. Notice will be published in the Federal Register.

The Sector Mobile Commander is vested with all the rights, responsibilities, duties, and authority of a Group Commander and Commanding Officer Marine Safety Office, as provided for in Coast Guard regulations, and is the successor in command to the Commanding Officers of Group Mobile and Marine Safety Office Mobile. The Sector Mobile Commander is designated: (a) Captain of the Port (COTP) for the Mobile COTP zone; (b) Federal Maritime Security Coordinator (FMSC); (c) Federal On Scene Coordinator (FOSC) for the Mobile COTP zone, consistent with the National Contingency Plan; (d) Officer in Charge of Marine Inspection (OCMI) for the Mobile Marine Inspection Zone and, (e) Search and Rescue Mission Coordinator (SMC). The Deputy Sector Commander is designated alternate COTP, FMSC, FOSC, SMC and Acting OCMI. A continuity of operations order has been issued ensuring that all previous Group Mobile and Marine Safety Office Mobile practices and procedures will remain in effect until superseded by Commander, Sector Mobile. This continuity of operations order addresses existing COTP regulations, orders, directives and policies.

The following information is a list of updated command titles, addresses and points of contact to facilitate requests from the public and assist with entry into security or safety zones:

Name: Sector Mobile.

Address: Commander, U.S. Coast Guard Sector Mobile, Building 102, Brookley Complex, Mobile, AL 36615-1390.

Contact: General Number, (251) 441-5720, Sector Commander: Captain James D. Bjostad; Deputy Sector Commander: Captain Steven D. Hardy.

Chief, Prevention Department: (251) 441-5284, Chief, Response Department: (251) 441-5962, Chief, Logistics Department: (251) 441-5503.

Dated: March 3, 2005.
R.F. Duncan,
Rear Admiral, U.S. Coast Guard, Commander, Eighth Coast Guard District.

[FR Doc. 05-5189 Filed 3-15-05; 8:45 am]

BILLING CODE 4910-15-P